DEPARTMENT OF COMMERCE

International Trade Administration

Export Trade Certificate of Review

ACTION: Notice of Issuance of an Export Trade Certificate of Review, Application No. 06-00003.

SUMMARY: On March 16, 2007, the U.S. Department of Commerce issued an Export Trade Certificate of Review to the American Sugar Alliance (“ASA”). This notice summarizes the conduct for which certification has been granted.

FOR FURTHER INFORMATION CONTACT: Jeffrey Anspacher, Director, Export Trading Company Affairs, International Trade Administration, by telephone at (202) 482-5131 (this is not a toll-free number), or by E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 (2005).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

Export Trade

Sugar and syrups of U.S. origin, as defined in Chapter Four (Rules of Origin) of the North American Free Trade Agreement, (“U.S.-origin sugar”) in any of the following categories:

H.S. Code | Description
1701.11.01 | Sugar, with a dry sucrose content that has polarization of 99.4 but not exceeding 99.5 degrees.
1701.11.02 | Sugar, with a dry sucrose content that has polarization of 96 but not exceeding 99.4 degrees.
1701.11.03 | Sugar, with a dry sucrose content that has polarization of 96 degrees.
1701.12.01 | Sugar, with a dry sucrose content that has polarization of 99.4 but not exceeding 99.5 degrees.
1701.12.02 | Sugar, with a dry sucrose content that has polarization of 96 but not exceeding 99.4 degrees.
1701.12.03 | Sugar, with a dry sucrose content that has polarization of 96 degrees.
1701.91.01 | Containing added flavoring or coloring matter.
1701.99.01 | Sugar, with a dry sucrose content that has polarization of 99.5 but not exceeding 99.7 degrees.
1701.99.02 | Sugar, with a dry sucrose content that has polarization of 99.7 but not exceeding 99.9 degrees.
1701.99.99 | Others.
1701.90.01 | Refined liquid sugar and inverted sugar.
1806.10.01 | With a sugar content weighting not less than 90%.
2106.90.05 | Flavored syrups or with added coloring matters (except syrups which have a sugar content less than 90%).

Export Markets

Mexico.

Export Trade Activities and Methods of Operation

Purpose

The ASA will allocate Certificates of Prior Approval (“CPAs”) through which Mexico will permit duty-free entry of U.S.-origin sugar into Mexico under the tariff-rate quota (“TRQ”) for U.S.-origin sugar through December 31, 2007, as set forth below.

The ASA will allocate CPAs to any sugar beet processor or cane sugar refiner in the United States that is listed as a Producer below.

CPA Administration

The ASA will allocate all CPAs at one time. In the event that any CPAs are returned to ASA for any reason, ASA will reallocate those CPAs among interested Producers. The allocation, and any reallocations, will be completed before December 16, 2007.

Certificate System

Under the procedures for the TRQ published on October 16, 2006 in the Mexican Diario Oficial, an importer in Mexico must file by December 15, 2007 with the Mexican Government a CPA issued by ASA to obtain a license to allow U.S.-origin sugar to enter into Mexico free of duty under the TRQ. The ASA will allocate CPAs among all Producers who express an interest in obtaining the CPAs based on each Producer's share of total U.S. sugar refining capacity in 2006, as reported to ASA. The ASA shall issue CPAs to such Producers.

CPAs issued by ASA shall be freely transferable by Producers. Transfers of CPAs after they are issued by ASA will be subject to the normal application of the antitrust laws.

Information Collection and Exchange

ASA may ask Producers individually for their production capacity figures for 2006 for the purposes of allocating the CPAs. Producers may supply that information to ASA, and ASA may allocate CPAs to Producers based on this information.

If production capacity information is collected by ASA, it will be collected and collated, and the allocations of CPAs will be made, by an employee or employees of ASA who are not employed by any member of the ASA Executive Committee or any Producer. As of the effective date of the Certificate, such employee or employees shall be the only persons who will have access to the collected production capacity information.

Any exchange of Producers' production capacity information or CPA allocation with other Producers, by Producers, ASA, any ASA member, or any other person is activity that is not protected under this Certificate.

Cooperation With the U.S. and Mexican Governments

The ASA will consult with the U.S. Government and the Government of Mexico when necessary and provide to them whatever information may be useful in order to facilitate cooperation between the governments concerning the implementation and operation of the CPA System. Furthermore, directly or through the U.S. Government, the ASA will endeavor to accommodate any information requests from the Government of Mexico (while protecting confidential information entrusted to the ASA), and will consult with the Government of Mexico as appropriate. All such information and consultations shall be subject to the provision on Confidential Information (above) and the Terms and Conditions (below).

Members (Within the Meaning of Section 325.(1) of the Regulations)

Members (in addition to ASA):

ASA Executive Committee (American Sugarbeet Growers Association, American Sugar Cane League, Florida Sugar Cane League, Inc., Gay & Robinson, Inc., Hawaiian Commercial & Sugar Co., Rio Grande Valley Sugar Growers Inc., Sugar Cane Growers Cooperative of Florida, U.S. Beet Sugar Association), and

Producers (Amalgamated Sugar Company LLC, American Sugar Refining Inc., American Crystal Sugar Company and Sidney Sugars (a subsidiary of American Crystal Sugar Co.), Florida Crystals Corporation, Hawaiian Commercial & Sugar Company, Imperial Sugar Company, Michigan Sugar Company, Minn-Dak Farmers Cooperative, Southern Minnesota Beet Sugar Cooperative and Spreckels Sugar Company (a subsidiary of Southern Minnesota Beet Sugar Cooperative), U.S. Sugar Corporation, Western Sugar Cooperative and Wyoming Sugar Company LLC).

Protection Provided by Certificate of Review

This Certificate protects the ASA, its Executive Committee, the Producers and the directors, officers, employees and representatives acting on behalf of the ASA, the ASA Executive Committee and the Producers from private treble damage actions and government criminal and civil suits under U.S. federal and state antitrust laws for the export conduct specified in the Certificate of Review and carried out during its effective period in compliance with its terms and conditions.

Terms and Conditions of Certificate

1. In engaging in Export Trade Activities and Methods of Operation, neither ASA, the ASA Executive Committee, any Producer nor any neutral third-party shall intentionally disclose, directly or indirectly, to any Member (including parent companies, subsidiaries, or other entities related to any Member) any information regarding any other Member's costs, production, inventories, domestic prices, domestic sales, domestic customers, domestic production capacity, domestic orders, terms of domestic marketing or sale, or U.S. business plans, strategies, or methods, unless such information is already generally available to the trade or public.

2. If ASA determines that the collection or disclosure of any non-public, company-specific information is necessary for the allocation of CPAs to Producers, ASA must seek an amendment of this Certificate to add such export conduct to this Certificate.

3. ASA, the ASA Executive Committee and the Producers will comply with requests made by the Secretary of Commerce on behalf of the Secretary or the Attorney General for information or documents relevant to conduct under the Certificate. The Secretary of Commerce will request such information or documents when either the Attorney General or the Secretary of Commerce believes that the information or documents are required to determine that the Export Trade, Export Trade Activities and Methods of Operation of a person protected by this Certificate continue to comply with the standards of section 303(a) of the Act.

Effective Period of Certificate

This Certificate continues in effect from the effective date indicated below until it is relinquished, modified, or revoked, as provided in the Act and the Regulations.

Other Conduct

Nothing in this Certificate prohibits the ASA, the ASA Executive Committee and the Producers from engaging in conduct not specified in this Certificate, but such conduct is subject to the normal application of the antitrust laws.

Disclaimer

The issuance of this Certificate of Review to ASA by the Secretary of Commerce with the concurrence of the Attorney General under the provisions of the Act does not constitute, explicitly or implicitly, an endorsement or opinion by the Secretary of Commerce or by the Attorney General concerning either (a) the viability or quality of the business plans of ASA, the ASA Executive Committee or the Producers or (b) the legality of such business plans of ASA, the ASA Executive Committee or the Producers under the laws of the United States (other than as provided in the Act) or under the laws of any foreign country.

The application of this Certificate to conduct in export trade where the United States Government is the buyer or where the United States Government bears more than half the cost of the transaction is subject to the limitations set forth in Section V.(D.) of the “Guidelines for the Issuance of Export Trade Certificates of Review (Second Edition),” 50 FR 1786 (January 11, 1985).

In accordance with the authority granted under the Act and the Regulations, this Certificate of Review is hereby issued to the American Sugar Alliance.

The effective date of the Certificate is March 16, 2007. A copy of the Certificate will be kept in the International Trade Administration's Freedom of Information Records Inspection Facility, Room 4100, U.S. Department of Commerce, 14th Street and Constitution Avenue, NW., Washington, DC 20230.

Dated: March 20, 2007.
Jeffrey C. Anspacher,
Director, Export Trading Company Affairs.

[FR Doc. E7-5498 Filed 3-23-07; 8:45 am]

BILLING CODE 3510-DR-P